DEPARTMENT OF THE INTERIOR

Office of the Secretary

[18XD0120AF/DT11100000/DST000000.54AB00; OMB Control Number 1035—New]

Agency Information Collection Activities; Submission to the Office of Management and Budget for Review and Approval; Trust Evaluation System

AGENCY: Office of the Special Trustee for American Indians, Interior.

ACTION: Notice of information collection; request for comment.

SUMMARY: In accordance with the Paperwork Reduction Act of 1995, we, the Office of the Special Trustee for American Indians (OST, we), are proposing a new information collection.

DATES: Interested persons are invited to submit comments on or before June 18, 2018.

ADDRESSES: Send written comments on this information collection request (ICR) to the Office of Management and Budget's Desk Officer for the Department of the Interior by email at OIRA_Submission@omb.eop.gov; or via facsimile to (202) 395-5806. Please provide a copy of your comments to Ronald L. Hunt, Federal Information Resources Director, Department of the Interior, Office of the Special Trustee for American Indians, Office of Information Resources, 4400 Masthead Street NE, Albuquerque, NM 87109; or by email to Ronald_Hunt@ost.doi.gov, or by telephone at (505) 816-1258. Please reference OMB Control Number 1035-OST in the subject line of your comments.

FOR FURTHER INFORMATION CONTACT: To request additional information about this ICR, contact Cecilia Smith, Management & Program Analyst, OST, Program Management, by email at Cecilia_Smith@ost.doi.gov, or by telephone at (505) 816-1259. You may also view the ICR at http://www.reginfo.gov/public/do/PRAMain.

SUPPLEMENTARY INFORMATION: In accordance with the Paperwork Reduction Act of 1995, we provide the general public and other Federal agencies with an opportunity to comment on new, proposed, revised, and continuing collections of information. This helps us assess the impact of our information collection requirements and minimize the public's reporting burden. It also helps the public understand our information collection requirements and provide the requested data in the desired format.

A Federal Register notice with a 60-day public comment period soliciting comments on this collection of information was published on May 25, 2015 (80 FR 30485). No comments were received in response to that notice.

We are again soliciting comments on the proposed ICR that is described below. We are especially interested in public comment addressing the following issues: (1) Is the collection necessary to the proper functions of the OST; (2) will this information be processed and used in a timely manner; (3) is the estimate of burden accurate; (4) how might the OST enhance the quality, utility, and clarity of the information to be collected; and (5) how might the OST minimize the burden of this collection on the respondents, including through the use of information technology.

Comments that you submit in response to this notice are a matter of public record. Before including your address, phone number, email address, or other personal identifying information in your comment, you should be aware that your entire comment—including your personal identifying information—may be made publicly available at any time. While you can ask us in your comment to withhold your personal identifying information from public review, we cannot guarantee that we will be able to do so.

Abstract: The Office of the Special Trustee for American Indians (OST) is responsible for overseeing the implementation of trust reforms, trust accounting and coordination of trust policies intra-bureau-wide related to the management of Indian trust funds and assets; see 25 U.S.C. 4041. The OST, Office of Trust Review and Audit (OTRA) is responsible for performing trust examinations, evaluations and assessments of Indian trust programs and functions, pursuant to executive direction by the Secretary of the Interior. In addition, OTRA has a congressional mandate to conduct Annual Tribal Trust Evaluations for Tribes that compact trust programs, functions, services, and/or activities under Public Law 93-638 Self-Governance Compacts on behalf of the Secretary of the Interior. This authority is in 25 U.S.C. 5363(d)(1) & (2) and the enabling regulations in 25 CFR 1000.350. OTRA currently collects Indian trust data and documentation from Tribes and Agencies in fulfillment of performing the Indian trust examinations on Federal Agencies and Tribal trust evaluations for compacted Tribes. This collection is enabled by performing desk reviews (via email electronic questionnaires), and on-site visits to Tribes and Federal agencies (although Federal agencies are exempt from the provisions of the PRA).

Under 25 CFR 1000.355, the Secretary's designated representative will conduct trust evaluations for each self-governance tribe that has an annual funding agreement. The end result is the issuance of a report, which is required by 25 CFR 1000.365. Currently, Department of the Interior, OST-OTRA, conducts an on-site review of trust operations where a tribe has compacted a trust program. During that review, under current methodology, interviews are conducted and documents are requested on-site. Information collected is then brought back to the Albuquerque office and analyzed. A draft report is written and provided to the tribe for comment where applicable, comments received back are incorporated into the report, and a final report is issued to the tribe.

OTRA is changing the method of collecting information from an on-site manual audit data collection method to a web-based automated audit data collection and audit management tool, called the Trust Evaluation System (TES). Currently OTRA travels to the audit location and uses a Thomas Reuters audit software solution called Auto Audit to manage the data collected in the field and the audit. TES, a web-based tool, will be cloud hosted and will be interactive with the Auditor, Tribes and Agencies throughout the evaluation process in conducting the trust examinations, tribal trust evaluations, and trust records assessments, via the web, as desktop reviews.

OST will be collecting the same data it currently collects manually, but will utilize electronic questionnaires and document uploads from Tribes and Federal agencies, via the web in TES, to complete the evaluations and examinations it currently conducts. This method will be implemented to replace the desktop reviews and/or traveling to each location to conduct these audits. Some audits will be still be conducted on-site, but only for high-risk locations. OTRA's audit universe consists of up to 300 audits on 3-5 year audit cycle for OST and Bureau of Indian Affairs (BIA) offices throughout the greater United States and Alaska.

Title of Collection: Trust Evaluation System.

OMB Control Number: 1035-New.

Form Number: None.

Type of Review: Existing collection in use without OMB approval.

Respondents/Affected Public: Tribes that have an annual funding agreement in place to compact Indian trust programs.

Total Estimated Number of Annual Respondents: 80 Tribes. Federal agencies are exempt from the PRA and are not included in the total annual respondents/responses/burden hours estimates.

Total Estimated Number of Annual Responses: 1,280.

Estimated Completion Time per Response: 2 hours for reporting and 1 hour for recordkeeping.

Total Estimated Number of Annual Burden Hours: 3,840.

Respondent's Obligation: Mandatory.

Frequency of Collection: Once per fiscal or calendar year (year the respective tribe operates under).

Total Estimated Annual Non-hour Burden Cost: None.

An agency may not conduct or sponsor and a person is not required to respond to a collection of information unless it displays a currently valid OMB control number.

The authority for this action is the Paperwork Reduction Act of 1995 (44 U.S.C. 3501 et seq.).

Jerold Gidner,
Principal Deputy Special Trustee, Office of the Special Trustee for American Indians.

[FR Doc. 2018-10596 Filed 5-17-18; 8:45 am]

BILLING CODE 4334-63-P